DEPARTMENT OF HEALTH AND HUMAN SERVICES

Centers for Disease Control and Prevention

[30Day-57-00]

Proposed Data Collections Submitted for Public Comment and Recommendations

In compliance with the requirement of Section 3506(c)(2)(A) of the Paperwork reduction Act of 1995, the Centers for Disease Control and Prevention (CDC) is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC Assistant Reports Clearance Officer, 1600 Clifton Road, MS-D24, Atlanta, GA 30333. Written comments should be received within 30 days of this notice.

Proposed Project

Microbial Contamination of Produce: A Field Study in the Lower Rio Grande Valley, Texas—New—National Center for Environmental Health (NCEH). Foodborne diseases are common; an estimated 6-33 million cases occur each year in the United States. Although most of these infections cause mild illness, severe infections and serious complications do occur. The public health challenges of foodborne diseases are changing rapidly. In recent years, new and emerging foodborne pathogens have been described and changes in food production have led to new food safety concerns. Foodborne diseases have been associated with many different foods, including recent outbreaks linked to contaminated fresh fruits (e.g., cantaloupe, strawberries) and vegetables (e.g., leaf lettuce, alfalfa sprouts).

NCEH proposes to conduct a study to determine what specific farm and produce processing practices are associated with fecal contamination of fruits and vegetables. Growing, handling and processing methods used in the produce industry may increase the risk that these foods will become contaminated with fecal matter. The study will describe the chain of farm to shipping practices for three vulnerable produce groups (leafy lettuces, leafy herbs, green onions). Critical agricultural practices where contamination with foodborne pathogens is likely will be identified by measuring the microbial quality of produce at each step during harvesting and processing (farm to shipping). Sources of fecal contamination will be determined by measuring the microbial quality of irrigation and process water, measuring fecal indicator organisms on hand rinses from farm laborers and handlers, and conducting sanitary surveys of sources of human and animal feces in and around the farms and processing areas. CDC/NCEH is requesting a 3-year clearance. The total annual burden hours are 54.2.

Respondents | No. of respondents | Responses/respondents | Avg. burden/respondent (in hrs.)
Farm Recruiting visit | 14 | 1 | 30/60
Packing Facility Recruiting visit | 9 | 1 | 30/60
Farm Manager interview (in person) | 12 | 2 | 30/60
Packing Facility Manager interview (in person) | 8 | 1 | 30/60
Hand rinse sample collection | 160 | 1 | 30/60

Dated: July 21, 2000.
Nancy Cheal,
Acting Associate Director for Policy, Planning, and Evaluation, Centers for Disease Control and Prevention (CDC).

[FR Doc. 00-19208 Filed 7-28-00; 8:45 am]

BILLING CODE 4163-18-P